DEPARTMENT OF ENERGY

Federal Energy Regulatory Commission

Notice of Effectiveness of Exempt Wholesale Generator or Foreign Utility Company Status

Desert Sunlight 250, LLC | EG13-47-000
Desert Sunlight 300, LLC | EG13-48-000
Fortis BC Holdings Inc | FC13-10-000
FortisBC Energy Inc
FortisBC Energy (Vancouver Island) Inc
FortisBC Energy (Whistler) Inc
FortisBC Huntingdon Inc
FortisBC Alternative Energy Services Inc
Fortis Generation East Limited Partnership | FC13-11-000
Fortis TCI Limited | FC13-12-000
Turks and Caicos Utilities Limited

Take notice that during the month of September 2013, the status of the above-captioned entities as Exempt Wholesale Generators or Foreign Utility Companies became effective by operation of the Commission's regulations. 18 CFR 366.7(a).

Dated: October 18, 2013.
Kimberly D. Bose,
Secretary.

[FR Doc. 2013-25050 Filed 10-24-13; 8:45 am]

BILLING CODE 6717-01-P